DEPARTMENT OF STATE

22 CFR Part 193

[Public Notice: 10381]

RIN 1400-AD31

Repeal of Benefits for Hostages in Iraq, Kuwait, or Lebanon

AGENCY: Department of State.

ACTION: Final rule.

SUMMARY: In accordance with Executive Order 13771 of January 30, 2017, which addresses agency review of existing regulations, including those that may be outmoded or ineffective, the State Department is repealing the regulations on Benefits for Hostages in Iraq, Kuwait, or Lebanon. The current regulations, which relate to hostage benefits for U.S. nationals in Iraq, Kuwait, or Lebanon were established in 1990, and are outdated as the program funding has been eliminated.

DATES: This rule is effective on April 12, 2018.

FOR FURTHER INFORMATION CONTACT: Colleen Flood, Office of Legal Affairs, Overseas Citizen Services, U.S. Department of State, 2201 C. Street NW, SA-17A, Washington, DC 20520, (202) 485-6070, FloodCB@state.gov.

SUPPLEMENTARY INFORMATION: This rule removes 22 CFR part 193 of the Code of Federal Regulations, which relates to limited monetary payments and federal life and health insurance benefits as a humanitarian gesture to certain U.S. nationals held hostage in Kuwait, Iraq, or Lebanon, and to the family members thereof, subject to specified funding and other limitations. The authorization to obligate funds under Section 599C of Public Law 101-513 expired on May 5, 1991.

The 1992-1993 Foreign Relations Authorization Act amended the Hostage Relief Act of 1990 to extend both the period of time during which the benefits were available and the eligibility criteria. In addition, section 302 contained two additional changes with respect to hostages captured in Lebanon. Section 302(a)(3) provided that health and life insurance benefits were available under certain circumstances for the period of the individual's hostage status, plus a 60-month period following the termination of hostage status. Previously, these benefits expired 12 months after the termination of hostage status, which remained the law with respect to hostages held in Iraq and Kuwait.

Title 22 CFR part 193 implemented these statutes, and described the classes of persons who could apply for benefits under the Act and the procedures according to which such applications will be processed by the Department of State.

The funds allocated for the benefits have been depleted; in addition, given the way the beneficiaries are defined, no one is able to qualify for these benefits any longer. Therefore, the Department of State is repealing part 193.

Regulatory Analysis and Notices

Administrative Procedure Act

This action is being taken as a final rule pursuant to the “good cause” provision of 5 U.S.C. 553(b). It is the position of the Department that notice and comment are not necessary in light of the fact that part 193 is obsolete. There is no authority for these rules.

Regulatory Flexibility Act

It is hereby certified that the repeal of these regulations will not have a significant economic impact on a substantial number of small entities under the criteria of the Regulatory Flexibility Act, 5 U.S.C. 605(b), because the issues addressed are not of an economic nature. In addition, the repeal of this regulation does not have federalism implications under E.O. 13132.

Unfunded Mandates Reform Act

Section 202 of the Unfunded Mandates Reform Act of 1995, 2 U.S.C. 1532, generally requires agencies to prepare a statement before proposing any rule that may result in an annual expenditure of $100 million or more by State, local, or tribal governments, or by the private sector. This rule will not result in any such expenditure, nor will it significantly or uniquely affect small governments.

Executive Orders 12866 and 13563

The Department of State has reviewed this rule to ensure its consistency with the regulatory philosophy and principles set forth in Executive Order 12866 and has determined that the benefits of this regulation justify its costs. The Department does not consider this rule to be an economically significant action within the scope of section 3(f)(1) of the Executive Order since it is not likely to have an annual effect on the economy of $100 million or more or to adversely affect in a material way the economy, a sector of the economy, competition, jobs, the environment, public health or safety, or State, local or tribal governments or communities. This rule is not an E.O. 13771 regulatory action because this rule is not significant under E.O. 12866.

Federalism

This regulation will not have substantial direct effects on the States, on the relationship between the national government and the States, or the distribution of power and responsibilities among the various levels of government. Nor will the rule have federalism implications warranting the application of Executive Orders 12372 and No. 13132.

Civil Justice Reform

The Department has reviewed the regulations in light of sections 3(a) and 3(b)(2) of Executive Order 12988 to eliminate ambiguity, minimize litigation, establish clear legal standards, and reduce burden.

Consultations With Tribal Governments

The Department has determined that this rulemaking will not have Tribal implications, will not impose substantial direct compliance costs on Indian Tribal governments, and will not pre-empt Tribal law. Accordingly, the requirements of Executive Order 13175 do not apply to this rulemaking.

Paperwork Reduction Act

This rule does not impose information collection requirements under the provisions of the Paperwork Reduction Act, 44 U.S.C. Chapter 35.

PART 193—[REMOVED]

Accordingly, under the authority of 22 U.S.C. 2651a(a)(4) and Executive Orders 13563, 13771 and 13777, 22 CFR part 193 is removed.

Carl C. Risch,
Assistant Secretary, Bureau of Consular Affairs, Department of State.

[FR Doc. 2018-07074 Filed 4-11-18; 8:45 am]

BILLING CODE 4710-06-P